DEPARTMENT OF JUSTICE

Notice of Lodging of Consent Decree Under the Clean Air Act

Notice is hereby given that on January 30, 2012, a proposed Consent Decree in United States of America v. Columbus Manufacturing, Inc. Case No. 4:12-cv-00471-DMR, was lodged with the United States District Court for the Northern District of California.

In this action, the United States sought civil penalties and injunctive relief against Columbus Manufacturing Inc. (“CMI”) for violations of Section 112(r)(1) and 112(r)(7) of the Clean Air Act, 42 U.S.C. 7412(r)(1) and 7412(r)(7) (“CAA”), Section 103 of the Comprehensive Environmental Response, Compensation and Liability Act, § 42 U.S.C. 9603 (“CERCLA”), and/or Sections 304 and 312 of the Emergency Preparedness and Community Right-To-Know Act, 42 U.S.C. 11004 and 11022 (“EPCRA”), with respect to CMI's two meat processing facilities located in South San Francisco and Hayward, California.

The United States has agreed to resolve these claims under the proposed Consent Decree wherein CMI has agreed to pay $685,446 in civil penalties, and perform injunctive relief valued at over $6 million.

The Department of Justice will receive, for a period of thirty (30) days from the date of this publication, comments relating to the Consent Decree. Comments should be addressed to the Assistant Attorney General, Environment and Natural Resources Division, and either emailed to pubcomment-ees.enrd@usdoj.gov or mailed to P.O. Box 7611, U.S. Department of Justice, Washington, DC 20044-7611, and should refer to United States of America v. Columbus Manufacturing, Inc. Case No. 4:12-cv-00471-DMR,

The Consent Decree may be examined at U.S. EPA Region IX at 75 Hawthorne Street, San Francisco, California 94105. During the public comment period, the Consent Decree may also be examined on the following Department of Justice Web site: http://www.usdoj.gov/enrd/Consent_Decrees.html. A copy of the Consent Decree may also be obtained by mail from the Consent Decree Library, P.O. Box 7611, U.S. Department of Justice, Washington, DC 20044-7611 or by faxing or emailing a request to “Consent Decree Copy” (EESCDCopy.ENRD@usdoj.gov), fax no. (202) 514-0097, phone confirmation number (202) 514-5241. In requesting a copy from the Consent Decree Library, please enclose a check in the amount of $9.00 (25 cents per page reproduction cost) payable to the U.S. Treasury or, if by email or fax, forward a check in that amount to the Consent Decree Library at the stated address.

Henry Friedman,
Assistant Chief, Environmental Enforcement Section, Environment and Natural Resources Division.

[FR Doc. 2012-3019 Filed 2-8-12; 8:45 am]

BILLING CODE 4410-15-P